RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: RUIA Claims Notification System.

(2) Form(s) submitted: ID-4k.

(3) OMB Number: 3220-0171.

(4) Expiration date of current OMB clearance: 6/30/2002.

(5) Type of request: Extension of a currently approved collection.

(6) Respondents: Business or other for-profit.

(7) Estimated annual number of respondents: 669.

(8) Total annual responses: 18,600.

(9) Total annual reporting hours: 460.

(10) Collection description: Section 5(b) of the RUIA requires that effective January 1, 1990, “when a claim for benefits is filed with the Railroad Retirement Board (RRB), the RRB shall provide notice of such claim to the claimant's base year employer(s) and afford such employer(s) an opportunity to submit information relevant to the claim”.

Additional Information or Comments: Copies of the forms and supporting documents can be obtained from Chuck Mierzwa, the agency clearance officer (312-751-3363). Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 02-11764 Filed 5-9-02; 8:45 am]

BILLING CODE 7905-01-M